DEPARTMENT OF COMMERCE

Economic Development Administration

Proposed Information Collection; Comment Request; Petition by a Firm for Certification of Eligibility To Apply for Trade Adjustment Assistance

AGENCY: Economic Development Agency (EDA).

ACTION: Notice.

SUMMARY: The Department of Commerce, as required by the Paperwork Reduction Act of 1995 (44 U.S.C. 3506(c)(2)(A)) and as part of its continuing effort to reduce paperwork and respondent burden, invites the general public and other Federal agencies to comment on proposed and/or continuing information collections.

DATES: Comments must be submitted in writing on or before July 12, 2005.

ADDRESSES: Direct all written comments to Diana Hynek, Departmental Paperwork Clearance Officer, Department of Commerce, Room 6625, 1401 Constitution Avenue, NW., Washington, DC 20230 or via e-mail to dhynek@doc.gov.

FOR FURTHER INFORMATION CONTACT: Requests for additional information or copies of the information collection instrument and instructions should be directed to Kenneth M. Kukovich, EDA PRA Liaison, Office of Management Services, HCHB. Room 7227, Economic Development Administration, Department of Commerce, 1401 Constitution Avenue, NW., Washington, DC 20230; telephone: (202) 482-0806; e-mail: kkukovich@eda.doc.gov.

SUPPLEMENTARY INFORMATION:

I. Abstract

Pursuant to Chapter 3 of Title II of the Trade Act of 1974, as amended (19 U.S.C. 2341 et seq.), the Secretary of Commerce (the “Secretary”) is given certain responsibilities concerning the provision of adjustment assistance for trade-injured firms. The Secretary has delegated this statutory authority and the corresponding responsibilities to the Economic Development Administration. EDA administers the Trade Adjustment Assistance Program to assist trade-injured U.S. manufacturing and producing firms to develop and implement strategies for competing in the global marketplace. The information is used to determine whether a firm is eligible to apply for trade adjustment assistance.

II. Method of Collection

Paper format of Form ED-840P.

III. Data

OMB Control Number: 0610-0091.

Agency Form Number: ED-840P, Petition by a Firm for Certification of Eligibility for Trade Adjustment Assistance.

Type of Review: Regular submission.

Affected Public: Business or other for-profit organizations.

Estimated Number of Respondents: 200.

Estimated Time Per Response: 8 hours.

Estimated Total Annual Burden Hours: 1,600.

Estimated Total Annual Cost to the Public: $96,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility and clarity of the information to be collected; and (d) ways to minimize the burden of the collection of information on respondents, including through the use of automated collection techniques or other forms of information technology.

Comments submitted in response to this notice will be summarized and/or included in the request for Office of Management and Budget approval of this information collection and they also will become a matter of public record.

Dated: May 9, 2005.
Gwellnar Banks,
Management Analyst, Office of the Chief Information Officer.

[FR Doc. 05-9542 Filed 5-12-05; 8:45 am]

BILLING CODE 3510-24-P